DEPARTMENT OF ENERGY

Bonneville Power Administration

Fourmile Hill Geothermal Development Project

AGENCY: Bonneville Power Administration (BPA), Department of Energy (DOE).

ACTION: Notice of availability of record of decision (ROD).

SUMMARY: This notice announces the availability of BPA's ROD to execute Power Purchase Agreements (PPAs) and Transmission Services Agreements (TSAs) with Calpine Siskiyou Geothermal Partners, L.P. to acquire and transmit output from the Fourmile Hill Geothermal Development Project (Project), relying on the Fourmile Hill Geothermal Development Project Final Environmental Impact Statement/Environmental Impact Report (Project EIS) (DOE/EIS-0266, September 1998).

ADDRESSES: Copies of the ROD and Executive Summary of the Project EIS can be obtained by calling BPA's toll-free document request line: 1-800-622-4520. The ROD is also available on the internet at www.efw.bpa.gov.

FOR FURTHER INFORMATION, CONTACT: Kathy Fisher—KEW-4, Environmental Project Manager, Bonneville Power Administration, P.O. Box 3621, Portland, Oregon, 97208-3621; telephone (503) 230-4375; fax (503) 230-5699; e-mail kpfisher@bpa.gov.

SUPPLEMENTARY INFORMATION: These PPAs and TSAs will allow BPA to (1) test the ability of geothermal energy in the Fourmile Hill area to provide a reliable, economical, and environmentally acceptable energy resource in the region; (2) assure consistency with BPA's statutory responsibilities; and (3) assure consistency with BPA's April 22, 1993, Resource Programs ROD.

The Bureau of Land Management (BLM) and the United States Forest Service (Forest Service) served as joint lead agencies under the National Environmental Policy Act in the preparation of the Project EIS and issued a ROD approving the Project on May 31, 2000. The Siskiyou County Air Pollution Control District served as the state lead agency under the California Environmental Quality Act and, similarly, posted notice of their approval of the Project on August 9, 2000. BPA, as a cooperating agency with BLM and the Forest Service, adopts the Project EIS and the entire Administrative Record, including the aforementioned decision documents and related post-Project EIS documentation, in this ROD. As detailed in the Final EIS, the proposed power plant and related facilities will be located in eastern Siskiyou and western Modoc Counties, California, on the Klamath and Modoc National Forests.

Issued in Portland, Oregon, on November 20, 2000.
Stephen J. Wright,
Acting Administrator and Chief Executive Officer.

[FR Doc. 00-30927 Filed 12-04-00; 8:45 am]

BILLING CODE 6450-01-P